DEPARTMENT OF THE INTERIOR

Bureau of Land Management

[PO4820000251]

Notice of Availability of the Final Environmental Impact Statement for the Dry Creek Trona Mine Project, Sweetwater County, Wyoming

AGENCY: Bureau of Land Management, Interior.

ACTION: Notice of availability.

SUMMARY: In compliance with the National Environmental Policy Act of 1969, as amended (NEPA), and the Federal Land Policy and Management Act of 1976, as amended (FLPMA), the Bureau of Land Management announces the availability of the final environmental impact statement (EIS) for the Dry Creek Trona Mine project in Sweetwater County, Wyoming.

DATES: The BLM will not issue a decision on the proposal for a minimum of 30 days after the date that the Environmental Protection Agency (EPA) publishes its notice of availability (NOA) in the Federal Register. The EPA usually publishes its NOAs on Fridays.

ADDRESSES: The final EIS and documents pertinent to this proposal are available for review on the BLM ePlanning project website at https://eplanning.blm.gov/eplanning-ui/admin/project/2016395/510.

FOR FURTHER INFORMATION CONTACT: Kelly Lamborn, Project Manager, telephone: (307) 828-4505; address: 430 North Highway 189, Kemmerer, WY 83101; email: klamborn@blm.gov. Individuals in the United States who are deaf, deafblind, hard of hearing, or have a speech disability may dial 711 (TTY, TDD, or TeleBraille) to access telecommunications relay services for contacting Ms. Lamborn. Individuals outside the United States should use the relay services offered within their country to make international calls to the point-of-contact in the United States.

SUPPLEMENTARY INFORMATION: The draft EIS provided the analysis of environmental consequences for the proposed Dry Creek Trona Mine Project. There were four alternatives considered and analyzed. The BLM selected Alternative D as the Preferred Alternative. Alternative D results in a larger project footprint, 7,015 acres. In this alternative, the development of the well field and mine production levels remain unchanged from the other alternatives, but the processing facilities are proposed to be relocated from the mine site area to a site north of I-80, approximately 8 miles west of Green River, Wyoming within a designated processing facilities boundary. The water supply pipeline would be relocated to north of I-80, connecting the processing facilities to the water intake on the Green River, reducing the impacts from 24.66 miles to 6.4 miles, eliminating the disturbance through the U.S. Forest Service Flaming Gorge Recreation Area and the Blacks Fork Priority Habitat Management Area for Greater Sage-Grouse.

Comments on the draft EIS received from the public and internal BLM review were considered and incorporated as appropriate into the final EIS. Public comments resulted in the addition of clarifying text but did not significantly change proposed decisions.

(Authority: 40 CFR 1506.6, 40 CFR 1506.10)

Franklin D. Keeler,
Acting District Manager, BLM High Desert District Office.

[FR Doc. 2025-03224 Filed 2-27-25; 8:45 am]

BILLING CODE 4331-26-P